DEPARTMENT OF DEFENSE

Office of the Secretary

Extension of Web-Based TRICARE Assistance Program Demonstration Program

AGENCY: Department of Defense.

ACTION: Notice of a Two Year Extension of the Web-Based TRICARE Assistance Program.

SUMMARY: This notice is to advise interested parties of an extension to the Military Health System (MHS) demonstration project, under authority of Title 10, U.S. Code, Section 1092, entitled Web-Based TRICARE Assistance Program. This demonstration was effective August 1, 2009, as referenced in the original Federal Register Notice, 74 FR 3667, July 24, 2009. The demonstration was extended to March 31, 2011, as referenced by Federal Register Notice, March 30, 2010. The demonstration project uses existing managed care support contracts (MCSC) to allow Web-based behavioral health and related services including non-medical counseling and advice services to active duty service members (ADSM), their families and members and their dependents enrolled in TRICARE Reserve Select, and those eligible for the Transition Assistance Management Program (TAMP) who reside in the continental United States. The extension is necessary to allow more time to measure the effectiveness of the demonstration in meeting its goal of improving beneficiary access to behavioral health care by incorporating Web-based technology.

DATES: Effective Date: This extension will be effective April 1, 2011. The demonstration project will continue until March 31, 2012.

ADDRESSES: TRICARE Management Activity (TMA), Health Plan Operations, 5111 Leesburg Pike, Suite 810, Falls Church, VA 22041.

FOR FURTHER INFORMATION CONTACT: For questions pertaining to this demonstration project, Mr. Richard Hart, (703) 681-0047.

SUPPLEMENTARY INFORMATION:

a. Background

On page 431 of the House Appropriations Committee Print accompanying H.R. 2638, the Department of Defense Appropriations Act for FY 2009, Joint Explanatory Statement, it is noted: “An area of particular interest is the provision of appropriate and accessible counseling to service members and their families who live in locations that are not close to military treatment facilities, other MHS facilities, or TRICARE providers. Web-based delivery of counseling has significant potential to offer counseling to personnel who otherwise might not be able to access it. Therefore, the Department is directed to establish and use a Web-based Clinical Mental Health Services Program as a way to deliver critical clinical mental health services to service members and families in rural areas.”

The TRICARE Assistance Program (TRIAP) demonstration, as outlined in 74 FR 3667 July 24, 2009 launched August 1, 2009, to provide the capability for short-term, problem solving counseling between eligible beneficiaries and licensed counselors utilizing video technology and software such as Skype or iChat. Regional contractors were tasked with formulating and initiating the programs. TRIAP services are available 24/7 and ADSMs, their spouses of any age, and other family members 18 years of age or older who reside in the United States are eligible to participate. Enrollees in TRICARE Reserve Select and the Transitional Assistance Management Program may also use the program. TRIAP provides assistance to beneficiaries dealing with personal problems that might adversely impact their work performance, health, and well-being. It includes assessment, short-term counseling, and referrals to more comprehensive levels of care if needed. TRIAP is based on commercial employee assistance models and provides counseling in a virtual face-to-face environment. There is a no diagnosis made, there are no limits to usage, and no notification about those seeking counseling will be made to their primary care managers or others, unless required by the counselor's licensure (e.g., spouse abuse). Participant confidentiality is protected, as no medical record entry is made.

Calls per month to the TRIAP line since the demonstration was extended and an aggressive marketing campaign launched have increased two fold, however, the majority (89%) of the calls are in the TRICARE West Region. In order to re-engage education efforts in the TRICARE North and South regions, allow enough time for these efforts to take effect and provide enough time to gather adequate data on the feasibility of utilizing audio and visual technologies including Web-based services to our active duty service members, their families and other beneficiaries on a permanent basis, an extension of the demonstration is necessary.

b. Implementation

This demonstration extension will be effective April 1, 2011.

c. Evaluation

As noted in the original Federal Register Notice, 74 FR 3667 July 24, 2009, and the extension Federal Register Notice, March 30, 2010, an independent evaluation of the demonstration will be conducted. It will be performed retrospectively and using administrative measures of behavioral health care access to provide analyses and comment on the effectiveness of the demonstration in meeting its goal of improving beneficiary access to behavioral health care by incorporating Web-based technology.

Dated: March 1, 2011.
Morgan F. Park,
Alternate OSD Federal Register Liaison Officer, Department of Defense.

[FR Doc. 2011-4867 Filed 3-3-11; 8:45 am]

BILLING CODE 5001-06-P